DEPARTMENT OF HOMELAND SECURITY

Federal Emergency Management Agency

[Docket ID FEMA-2017-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: October 13, 2017.
Roy E. Wright,
Deputy Associate Administrator for Insurance and Mitigation, Department of Homeland Security, Federal Emergency Management Agency.

State and county | Location and case No. | Chief executive officer of community | Community map repository | Date of modification | Community No.
Alabama:
Jefferson (FEMA Docket No.: B-1727) | City of Birmingham (17-04-3064X) | The Honorable William A. Bell, Sr., Mayor, City of Birmingham, 710 North 20th Street, 3rd Floor, Birmingham, AL 35203 | City Hall, 710 North 20th Street, 3rd Floor, Birmingham, AL 35203 | Aug. 28, 2017 | 010116
Jefferson (FEMA Docket No.: B-1727) | Unincorporated areas of Jefferson County (16-04-6806P) | The Honorable James A. Stephens, Chairman, Jefferson County Board of Commissioners, 716 Richard Arrington, Jr. Boulevard North, Birmingham, AL 35203 | Jefferson County Land Development Department, 716 Richard Arrington, Jr. Boulevard North, Birmingham, AL 35203 | Aug. 17, 201 | 010217
Jefferson (FEMA Docket No.: B-1727) | Unincorporated areas of Jefferson County (17-04-3064X) | The Honorable James A. Stephens, Chairman, Jefferson County Board of Commissioners, 716 Richard Arrington Jr. Boulevard North, Birmingham, AL 35203 | Jefferson County Land Development Department, 716 Richard Arrington, Jr. Boulevard North, Birmingham, AL 35203 | Aug. 28, 201 | 010217
Madison (FEMA Docket No.: B-1735) | City of Huntsville (16-04-8443P | The Honorable Thomas M. Battle, Jr., Mayor, City of Huntsville, 308 Fountain Circle, 8th Floor, Huntsville, AL 35801 | City Hall, 308 Fountain Circle, 8th Floor, Huntsville, AL 35801 | Sept. 14, 201 | 010153
Montgomery (FEMA Docket No.: B-1735) | City of Montgomery (16-04-7922P) | The Honorable Todd Strange, Mayor, City of Montgomery, 103 North Perry Street, Montgomery, AL 36104 | Engineering Department, 25 Washington Avenue, Montgomery, AL 36104 | Aug. 28, 201 | 010174
Colorado: El Paso (FEMA Docket No.: B-1725) | City of Colorado Springs (17-08-0131P) | The Honorable John Suthers, Mayor, City of Colorado Springs, 30 South Nevada Avenue, Colorado Springs, CO 80901 | City Hall, 30 South Nevada Avenue, Colorado Springs, CO 80901 | Aug. 22, 201 | 080060
Connecticut:
Fairfield (FEMA Docket No.: B-1733) | Town of Greenwich (17-01-0822P) | The Honorable Peter Tesei, First Selectman, Town of Greenwich, Board of Selectmen, 101 Field Point Road, Greenwich, CT 06830 | Planning and Zoning Department, 101 Field Point Road, Greenwich, CT 06830 | Sep. 5, 201 | 090008
Hartford (FEMA Docket No.: B-1725) | Town of East Hartford (17-01-0668P) | The Honorable Marcia A. Leclerc, Mayor, Town of East Hartford, 740 Main Street, East Hartford, CT 06108 | Town Hall, 740 Main Street, East Hartford, CT 06108 | Aug. 16, 201 | 090026
Florida:
Lee (FEMA Docket No.: B-1725) | City of Sanibel (17-04-0549P) | The Honorable Kevin Ruane, Mayor, City of Sanibel, 800 Dunlop Road, Sanibel, FL 33957 | Planning and Code Enforcement Department, 800 Dunlop Road, Sanibel, FL 33957 | Aug. 18. 201 | 120402
Lee (FEMA Docket No.: B-1727) | Town of Fort Myers Beach (16-04-8301P) | The Honorable Dennis C. Boback, Mayor, Town of Fort Myers Beach, 2525 Estero Boulevard, Fort Myers Beach, FL 33931 | Community Development Department, 2525 Estero Boulevard, Fort Myers Beach, FL 33931 | Sep. 6, 201 | 120673
Lee (FEMA Docket No.: B-1727) | Unincorporated areas of Lee County (16-04-8301P) | The Honorable Frank Mann, President, Lee County Board of Commissioners, 2120 Main Street, Fort Myers, FL 33901 | Lee County Community Development Department, 1500 Monroe Street, Fort Myers, FL 33901 | Sep. 6, 201 | 120124
Manatee (FEMA Docket No.: B-1727) | Unincorporated areas of Manatee County (16-04-8240P) | The Honorable Betsy Benac, Chair, Manatee County, Board of Commissioners, P.O. Box 1000, Bradenton, FL 34206 | Manatee County Building and Development Services Department, 1112 Manatee Avenue West, Bradenton, FL 34205 | Sep. 8, 201 | 120153
Martin (FEMA Docket No.: B-1725) | City of Stuart (17-04-3100P) | The Honorable Tom Campenni, Mayor, City of Stuart, 121 Southwest Flagler Avenue, Stuart, FL 34994 | Development Department, 121 Southwest Flagler Avenue, Stuart, FL 34994 | Aug. 23. 201 | 120165
Miami-Dade (FEMA Docket No.: B-1725) | City of Doral (17-04-1147P) | The Honorable Juan Carlos Bermudez, Mayor, City of Doral, 8401 Northwest 53rd Terrace, Doral, FL 33166 | City Hall, 8401 Northwest 53rd Terrace, Doral, FL 33166 | Aug. 16. 201 | 120041
Miami-Dade (FEMA Docket No.: B-1725) | City of Doral (17-04-1148P) | The Honorable Juan Carlos Bermudez, Mayor, City of Doral, 8401 Northwest 53rd Terrace, Doral, FL 33166 | City Hall, 8401 Northwest 53rd Terrace, Doral, FL 33166 | Aug. 18. 201 | 120041
Miami-Dade (FEMA Docket No.: B-1727) | City of Miami (16-04-7715P) | The Honorable Tomas P. Regalado, Mayor, City of Miami, 3500 Pan American Drive, Miami, FL 33133 | Building Department, 444 Southwest 2nd Avenue, 4th Floor, Miami, FL 33130 | Sep. 5, 201 | 120650
Monroe (FEMA Docket, No.: B-1735) | Village of Islamorada (17-04-0974P) | The Honorable Jim Mooney, Mayor, Village of Islamorada, 86800 Overseas Highway, Islamorada, FL 33036 | Planning and Development Services Department, 86800 Overseas Highway, Islamorada, FL 33036 | Aug. 31, 201 | 120424
Monroe (FEMA Docket, No.: B-1725) | Unincorporated areas of Monroe County (17-04-2646P) | The Honorable George Neugent, Mayor, Monroe County, Board of Commissioners, 500 Whitehead Street, Suite 102, Key West, FL 33040 | Monroe County Building Department, 2798 Overseas Highway, Suite 300, Marathon, FL 33050 | Aug. 17. 201 | 125129
St. Johns (FEMA Docket No.: B-1727) | Unincorporated areas of St. Johns County (17-04-1263P) | The Honorable James K. Johns, Chairman, St. Johns County Board of Commissioners, 500 San Sebastian View, St. Augustine, FL 32084 | St. Johns County Building Services Division, 4040 Lewis Speedway, St. Augustine, FL 32084 | Aug. 31, 201 | 125147
Seminole (FEMA Docket No.: B-1727) | City of Altamonte Springs (17-04-1381P) | The Honorable Patricia Bates, Mayor, City of Altamonte Springs, 225 Newburyport Avenue, Altamonte Springs, FL 32701 | Public Works Department, 225 Newburyport Avenue, Altamonte Springs, FL 32701 | Sep. 1, 201 | 120290
Georgia:
Cherokee (FEMA Docket No.: B-1727) | City of Canton (16-04-5695P) | The Honorable Gene Hobgood, Mayor, City of Canton, 151 Elizabeth Street, Canton, GA 30114 | City Hall, 151 Elizabeth Street, Canton, GA 30114 | Sep. 5, 201 | 130039
Cherokee (FEMA Docket No.: B-1727) | Unincorporated areas of Cherokee County (16-04-5695P) | The Honorable L.B. Ahrens, Jr., Chairman, Cherokee County Board of Commissioners, 1130 Bluffs Parkway, Canton, GA 30114 | Cherokee County Public Works Department, 1130 Bluffs Parkway, Canton, GA 30114 | Sep. 5, 201 | 130424
Gordon (FEMA Docket No.: B-1733) | Unincorporated areas of Gordon County (17-04-0799P) | The Honorable Becky Hood, Chair, Gordon County Board of Commissioners, 201 North Wall Street, Calhoun, GA 30701 | Gordon County Building, Planning and Development Department, 200 South Wall Street, Calhoun, GA 30701 | Aug. 31, 201 | 130094
Louisiana: Ouachita (FEMA Docket No.: B-1735) | City of Monroe (17-06-1426P) | The Honorable James E. Mayo, Mayor, City of Monroe, P.O. Box 123, Monroe, LA 71210 | City Hall, 3901 Jackson Street, Monroe, LA 71202 | Aug. 25, 201 | 220136
Maine: Oxford (FEMA Docket No.: B-1735) | Town of Hiram (17-01-0730P) | The Honorable Joyce Siracuse, Chair, Town of Hiram Board of Selectmen, 25 Allard Circle, Hiram, ME 04041 | Town Hall, 25 Allard Circle, Hiram, ME 04041 | Aug. 18, 201 | 230094
Maryland: Anne Arundel (FEMA Docket No.: B-1727) | Unincorporated areas of Anne Arundel County (17-03-0502P) | The Honorable Steve R. Schuh, Anne Arundel County Executive, 44 Calvert Street, Annapolis, MD 21401 | Anne Arundel County Heritage Complex, 2664 Riva Road, Annapolis, MD 21401 | Sep. 5, 201 | 240008
Massachusetts: Essex (FEMA Docket No.: B-1735) | City of Gloucester (17-01-0964P) | The Honorable Sefatia Romeo Theken, Mayor, City of Gloucester, 9 Dale Avenue, Gloucester, MA 01930 | Community Development Department, 3 Pond Road, Gloucester, MA 01930 | Aug. 28, 201 | 250082
Mississippi: Rankin (FEMA Docket, No.: B-1727) | City of Pearl (17-04-0485P) | The Honorable Brad Rogers, Mayor, City of Pearl, P.O. Box 5948, Pearl, MS 39288 | Community Development Department, 2420 Old Brandon Road, Pearl, MS 39208 | Aug. 31, 201 | 280145
North Carolina:
Carteret (FEMA Docket No.: B-1735) | Town of Indian Beach (17-04-0494P) | The Honorable Stewart Pickett, Mayor, Town of Indian Beach, 1400 Salter Path Road, Salter Path, NC 28575 | Planning and Inspections Department, 1400 Salter Path Road, Salter Path, NC 28575 | Aug. 28, 201 | 370433
Carteret (FEMA Docket No.: B-1735) | Unincorporated areas of Carteret County (17-04-0494P) | The Honorable Mark Mansfield, Chairman, Carteret County Board of Commissioners, 302 Courthouse Square, Beaufort, NC 28516 | Carteret County Planning and Inspections Department, 402 Broad Street, Beaufort, NC 28516 | Aug. 28, 201 | 370043
Catawba (FEMA Docket No.: B-1733) | City of Conover (16-04-8093P) | The Honorable Lee E. Moritz, Jr., Mayor, City of Conover, P.O. Box 549, Conover, NC 28613 | City Hall, 101 1st Street East, Conover, NC 28613 | Sep. 15, 201 | 370053
Macon (FEMA Docket No.: B-1733) | Town of Franklin (16-04-5247P) | The Honorable Bob Scott, Mayor, Town of Franklin, P.O. Box 1479, Franklin, NC 28744 | Town Hall, 95 East Main Street, Franklin, NC 28734 | Sep. 18, 201 | 375350
Macon (FEMA Docket No.: B-1733) | Unincorporated areas of Macon County (16-04-5247P) | The Honorable James P. Tate, Chairman, Macon County Board of Commissioners, 5 West Main Street, Franklin, NC 28734 | Macon County, Director of Planning, Permitting and Development Office, 5 West Main Street, Franklin, NC 28734 | Sep. 18, 201 | 370150
Wake (FEMA Docket No.: B-1727) | Town of Apex (17-04-1615P) | The Honorable Lance Olive, Mayor, Town of Apex, P.O. Box 250, Apex, NC 27502 | Engineering Department, 73 Hunter Street, Apex, NC 27502 | Sep. 5, 201 | 370467
Wake (FEMA Docket No.: B-1727) | Town of Cary (17-04-1615P) | The Honorable Harold Weinbrecht, Jr., Mayor, Town of Cary, P.O. Box 8005, Cary, NC 27512 | Stormwater Services Division, 316 North Academy Street, Cary, NC 27511 | Sep. 5, 201 | 370238
Watauga (FEMA Docket No.: B-1733) | Town of Boone (16-04-8003P) | The Honorable Rennie Brantz, Mayor 567 West King Street, Boone, NC 28607 | Planning and Inspections Department, 680 West King Street, Suite C, Boone, NC 28607 | Sep. 14, 201 | 370253
Watauga (FEMA Docket No.: B-1733) | Unincorporated areas of Watauga County (16-04-8003P) | The Honorable John Welch Chairman, Board of Commissioners, 814 West King Street, Suite 205, Boone, NC 28607 | Watauga County Planning and Inspections Department 331 Queen Street, Suite A, Boone, NC 28607 | Sept. 14, 201 | 370251
Oklahoma: Tulsa (FEMA Docket No.: B-1725) | City of Tulsa (17-06-0736P) | The Honorable G.T. Bynum, Mayor, City of Tulsa, 175 East 2nd Street, 15th Floor, Tulsa, OK 74103 | Planning and Engineering Department, 175 East 2nd Street, 4th Floor, Tulsa, OK 74103 | Aug. 25. 201 | 405381
Pennsylvania: Berks (FEMA Docket No.: B-1725) | Township of Robeson (17-03-0500P) | The Honorable Christopher Smith, Chairman, Township of Robeson Board of Supervisors, 8 Boonetown Road, Birdsboro, PA 19508 | Township Municipal Building, 8 Boonetown Road, Birdsboro, PA 19508 | Aug. 21. 201 | 420146
Texas:
Collin (FEMA Docket No.: B-1725) | City of Allen (16-06-4233P) | The Honorable Stephen Terrell, Mayor, City of Allen, 305 Century Parkway, Allen, TX 75013 | Engineering Department, 305 Century Parkway, Allen, TX 75013 | Aug. 18. 201 | 480131
Collin (FEMA Docket No.: B-1725) | City of Allen (17-06-0212P) | The Honorable Stephen Terrell, Mayor, City of Allen, 305 Century Parkway, Allen, TX 75013 | Engineering Department, 305 Century Parkway, Allen, TX 75013 | Aug. 18. 201 | 480131
Denton (FEMA Docket No.: B-1727) | City of Frisco (17-06-0579P) | The Honorable Maher Maso, Mayor, City of Frisco, 6101 Frisco Square Boulevard, Frisco, TX 75034 | Engineering Services Department, 6101 Frisco Square Boulevard, Frisco, TX 75034 | Sep. 5, 201 | 480134
Denton (FEMA Docket No.: B-1727) | City of Justin (16-06-3379P) | The Honorable Greg Scott, Mayor, City of Justin, P.O. Box 129, Justin, TX 76247 | City Hall, 415 North College Avenue, Justin, TX 76248 | Aug. 24, 201 | 480778
Fort Bend (FEMA Docket No.: B-1725) | City of Houston (17-06-1036P) | The Honorable Sylvester Turner, Mayor, City of Houston, P.O. Box 1562, Houston, TX 77251 | Floodplain Management Department, 1002 Washington Avenue, Houston, TX 77002 | Aug. 21. 201 | 480296
Fort Bend (FEMA Docket No.: B-1725) | City of Sugar Land (17-06-1036P) | The Honorable Joe R. Zimmerman, Mayor, City of Sugar Land, P.O. Box 110, Sugar Land, TX 77479 | Engineering Department, 2700 Town Center Boulevard, Sugar Land, TX 77479 | Aug. 21. 201 | 480234
Fort Bend (FEMA Docket No.: B-1725) | Fort Bend County M.U.D. #2 (17-06-1036P) | Mr. Robert Yack, President, Fort Bend County M.U.D. #2, Board of Directors, Allen Boone Humphreys Robinson, LLP, 3200 Southwest Freeway, Suite 2600, Houston, TX 77027 | Pate Engineers, Inc., 13333 Northwest Freeway, Suite 300, Houston, TX 77040 | Aug. 21. 201 | 481272
Fort Bend (FEMA Docket No.: B-1725) | Unincorporated areas of Fort Bend County (17-06-1036P) | The Honorable Robert Hebert, Fort Bend County Judge, 401 Jackson Street, Richmond, TX 77469 | Fort Bend County Engineering Department, 401 Jackson Street, Richmond, TX 77469 | Aug. 21. 201 | 480228
Fort Bend (FEMA Docket No.: B-1725) | West Keegans Bayou Improvement District (17-06-1036P) | Ms. Sandra Weider, President, West Keegans Bayou Improvement District, 15014 Traymore Drive, Houston, TX 77083 | AECOM, 5444 Westheimer, Suite 400, Houston, TX 77056 | Aug. 21. 201 | 481602
Tarrant (FEMA Docket No.: B-1725) | City of Fort Worth (17-06-0630P) | The Honorable Betsy Price, Mayor, City of Fort Worth, 200 Texas Street, Fort Worth, TX 76102 | Transportation and Public Works Department, 200 Texas Street, Fort Worth, TX 76102 | Aug. 17. 201 | 480596
Webb (FEMA Docket No.: B-1725) | Unincorporated areas of Webb County (16-06-2463P) | The Honorable Tano E. Tijerina, Webb County Judge, 1000 Houston Street, 3rd Floor, Laredo, TX 78040 | Webb County Planning and Physical Development Department, 1110 Washington Street, Suite 302, Laredo, TX 78040 | Aug. 24. 201 | 481059
Williamson (FEMA Docket No.: B-1727) | City of Leander (17-06-1136P) | The Honorable Christopher Fielder, Mayor, City of Leander, P.O. Box 319, Leander, TX 78646 | City Hall, 200 West Wills Street, Leander, TX 78641 | Aug. 18, 201 | 481536
Utah:
Davis (FEMA Docket No.: B-1725) | City of Farmington City (16-08-1270P) | The Honorable Jim Talbot, Mayor, City of Farmington City, 130 North Main Street, Farmington, UT 84025 | City Hall, 130 North Main Street, Farmington, UT 84025 | Aug. 18. 201 | 490044
Davis (FEMA Docket No.: B-1725) | Unincorporated areas of Davis County (16-08-1270P) | The Honorable P. Bret Millburn, Chairman, Davis County, Board of Commissioners, 61 South Main Street, Suite 301, Farmington, UT 84025 | Davis County Administration Building, 61 South Main Street, Suite 304, Farmington, UT 84025 | Aug. 18. 201 | 490038
Salt Lake (FEMA Docket No.: B-1727) | City of West Jordan (17-08-0033P) | The Honorable Kim Rolfe, Mayor, City of West Jordan, 8000 South Redwood Road, West Jordan, UT 84088 | City Hall, 8000 South Redwood Road, West Jordan, UT 84088 | Aug. 28, 201 | 490108
Summit (FEMA Docket No.: B-1727) | City of Park City (16-08-1092P) | The Honorable Jack Thomas, Mayor, City of Park City, 445 Marsac Avenue, Park City, UT 84060 | City Hall, 445 Marsac Avenue, Park City, UT 84060 | Aug. 31, 201 | 490139
Virginia: Prince William (FEMA Docket No.: B-1725) | Unincorporated areas of Prince William County (16-03-1619P) | Mr. Christopher E. Martino, Prince William County Executive, 1 County Complex Court, Prince William, VA 22192 | Prince William County Development Services Department, Environmental Services Division, 5 County Complex Court, Prince William, VA 22192 | Aug. 24. 201 | 510119

[FR Doc. 2017-23164 Filed 10-24-17; 8:45 am]

BILLING CODE 9110-12-P